SECURITIES AND EXCHANGE COMMISSION

Sunshine Act Meeting

Federal Register Citation of Previous Announcement: [To be published on March 7, 2005].

Status: Closed meeting.

Place: 450 Fifth Street, NW., Washington, DC.

Date and Time of Previously Announced Meeting: Wednesday March 9, 2005 at 4 p.m.

Change in the Meeting: Time change.

The Closed Meeting scheduled for Wednesday, March 9, 2005 at 4 p.m. has been changed to Wednesday, March 9, 2005 at 2 p.m.

At times, changes in Commission priorities require alterations in the scheduling of meeting items. For further information and to ascertain what, if any, matters have been added, deleted or postponed, please contact the Office of the Secretary at (202) 942-7070.

Dated: March 4, 2005.
Jonathan G. Katz,
Secretary.

[FR Doc. 05-4576 Filed 3-4-05; 11:39 am]

BILLING CODE 8010-01-P